DEPARTMENT OF THE INTERIOR

Minerals Management Service

30 CFR Part 250

RIN 1010-AC55

Oil and Gas and Sulphur Operations in the Outer Continental Shelf—Update of Documents Incorporated by Reference, Correction

AGENCY: Minerals Management Service (MMS), Interior.

ACTION: Correction to final regulations.

SUMMARY: This document corrects the final rule titled “Update of Documents Incorporated by Reference,” which was published Tuesday, January 4, 2000 (65 FR 217). We are adding a citation to entries for two American Petroleum Institute (API) Recommended Practices (RP) in the table of Documents Incorporated by Reference and correcting a section of the regulations to incorporate by reference the two documents.

EFFECTIVE DATE: February 3, 2000. The incorporation by reference of publications listed in the regulation is approved by the Director of the Federal Register as of February 3, 2000.

FOR FURTHER INFORMATION CONTACT: Alexis London, Rules Processing Team, Engineering and Operations Division, (703) 787-1600.

SUPPLEMENTARY INFORMATION:

Background

The final regulations that are the subject of these corrections updated one API document incorporated by reference (API RP 500) and added a new document incorporated by reference (API RP 505). These regulations affect all operators and lessees on the Outer Continental Shelf.

The regulation at 30 CFR 250.410(e) on safety precautions in mud-handling areas currently incorporates by reference the out-of-date document “API RP 500B.” The final regulations should have revised § 250.410(e) to reference “API RP 500” or “API RP 505” as it did for various other sections of our regulations. The list of citations for API RP 500 and API RP 505 in the table of documents incorporated by reference in § 250.198(e) should have then included § 250.410(e).

Need for Correction

As published, the final regulations contain errors that may prove to be misleading and are in need of clarification.

Correction of Publication

Accordingly, the publication of the final regulations on January 4, 2000, which were the subject of FR Doc. 00-26, is corrected as follows:

§ 250.198 [Corrected]

On pages 218 and 219, in the table for § 250.198(e), the entries for API RP 500 and API RP 505 are corrected to read as follows:

§ 250.198 Documents incorporated by reference.

* * * * *

(e) * * *

Title of document | Incorporated by reference at
| * * * * * * *
API RP 500, Recommended Practice for Classification of Locations for Electrical Installations at Petroleum Facilities Classified as Class I, Division 1 and Division 2, Second Edition, November 1997, API Stock No. C50002 | § 250.114(a); § 250.410(e); § 250.802(e)(4)(i); § 250.803(b)(9)(i); § 250.1628(b)(3); (d)(4)(i); § 250.1629(b)(4)(i).
API RP 505, Recommended Practice for Classification of Locations for Electrical Installations at Petroleum Facilities Classified as Class I, Zone 0, Zone 1, and Zone 2, First Edition, November 1997, API Stock No. C50501 | § 250.114(a); § 250.410(e); § 250.802(e)(4)(i); § 250.803(b)(9)(i); § 250.1628(b)(3); (d)(4)(i); § 250.1629(b)(4)(i).
| * * * * * * *

On page 219, in the 3rd column following the amendment to § 250.1629, an amendment to § 250.410 is added as follows:

9. In § 250.410, in paragraph (e), the title of the document incorporated by reference “API RP 500B” is revised to read “API RP 500 or API RP 505”.

Dated: June 19, 2000.
E. P. Danenberger,
Chief, Engineering and Operations Division.

[FR Doc. 00-16250 Filed 6-28-00; 8:45 am]

BILLING CODE 4310-MR-P